DEPARTMENT OF JUSTICE

National Institute of Corrections

Solicitation for a Cooperative Agreement—Development of Training Curriculum and Delivery of Managing Initial Criminal Justice Decisions Forums

AGENCY: National Institute of Corrections, Department of Justice.

ACTION: Solicitation for a cooperative agreement.

SUMMARY: The National Institute of Corrections is seeking applications for a cooperative agreement to join NIC in assisting five to seven local jurisdiction criminal justice policy teams in developing an “outcome based decision process” for the pretrial phase activities of their system. This initiative is being undertaken as an interagency activity between the Bureau of Justice Assistance and the National Institute of Corrections.

NIC has been involved in several projects which examine the relationships of component parts of the justice system to each other. Our experience indicates that while justice agencies within a jurisdiction may have a general working knowledge of what each other does, true collaboration is not the norm. One of the purposes of this project is to bring jurisdictional policy makers together to discuss and define what they want as an outcome for their pretrial efforts. To assist them in defining their desired outcome statement, NIC will provide them with information on best practices together with team building activities designed to produce collaborative planning and determine what degree of investment they are prepared to make from current and/or new resources to accomplish their desired outcome.

The cooperative agreement is an assistance relationship in which the National Institute of Corrections is substantially involved in all aspects of the project during the award period. An award will be made to an organization or individual who will, in concert with the Institute, provide technical assistance to the selected jurisdictions. No funds will be transferred to state or local governments.

Project Objectives

The goal of the project is to bring together system policy makers, affected by pretrial decisions, as a team to build an awareness of “outcome based decision making”. NIC will provide them with relevant information they can take back home and use in future design and implementation. This project will present content information about policy adopted and programs implemented in a number of jurisdictions to improve case flow, reduce officer court appearances, reduce officers processing time, reduce prosecutor and public defender preparation time and provide the court with accurate defendant information to effectively and efficiently produce desired outcomes. Finally, the project will emphasize the need to establish and maintain a policy level group for ongoing strategic planning.

Each local policy team will consist of seven (7) identified positions and will attend two three-day forums. The policy team will consist of the following representatives: 1. Judge, 2. The Prosecutor, 3. Chief Law Enforcement Officer, 4. Community Based Victim Advocate, 5. Pretrial Program Administrator or Jail Administrator, 6. city/county CAO/CFO or Executive, 7. Public Defender or Defense Bar. The final team participants will be determined based on individual jurisdictional circumstances.

The overall goal is to assist the jurisdiction to produce an outcome based policy statement which will be implemented for pretrial activities. i.e., reduce the potential for offenses by pretrial defendants, reduce the amount of time from arrest to trial and assure adequate facilities for all pretrial defendants etc. In support of this goal the objectives are:

1. Discuss what is required to plan a systemic course of action for all pretrial activities. i.e., the investment of time to build trust, to share resources and to jointly share responsibility.

2. Identify how their present system works and provide an overview of mapping the activities from arrest to trial in each component. (Actual mapping activity should occur between the first and second forum meeting.)

3. Develop written policy and procedure based on a systemic plan.

4. Identify a policy level planning to attend and participate in the forums.

5. Assist the jurisdiction identifying data elements needed for policy decisions in future decision making.

6. Provide exercises during the forums which require team members to examine their individual/agency actions against the team's desired outcome statement.

7. Develop strategic planning skills which can be applied to future policy making activities.

Design and content of the project

This project will provide training forums and on-site technical assistance to support the development and implementation of a collaborative planning process for the components involved in the pretrial phase of the criminal justice system. The project will bring five to seven jurisdiction teams of seven (7) members each from local justice systems to a central location for content presentations and team building exercises. It will also provide a limited amount of on-site technical assistance.

The project is designed to bring together policy level teams to collaboratively define the desired outcome of the pretrial process in their jurisdiction and to test out policy change scenarios they develop which move toward the desired outcome. Our previous experience in working with criminal justice components suggests that before systemic change can occur there must be agreement among policy makers. (Of course, before the policy can be successful there must be understanding and agreement at the implementation point.) Therefore, the jurisdictional teams make-up requires those at the top of their organizations to be the participants. Each jurisdiction must be willing to commit the time and effort of their policy makers to a process of team building, visioning and strategic planning to develop both system and agency policies which will lead to effective and efficient pretrial processes.

Project assistance will be in the form of providing travel and per diem to attend two (2) forums consisting of three (3) days each at the National Institute of Corrections, Longmont, Colorado facility. During the forums the participants will be provided content information from practitioners after which they will produce at a desired outcome statement based on their values. Each participating jurisdiction will receive one (1) on site technical assistance visit between the first and second forum to complete a mapping exercise. Additionally, each jurisdiction will have the option of requesting additional technical assistance based on their identified needs and the initiatives funding limitations.

Scope of Work

Applicants for this cooperative agreement should propose a training and technical assistance plan which identifies how the following tasks will be accomplished together with the associated costs:

1. Identify a group of practitioners for lesson plan development and content presentations at forums. The final selection of presenters will be a joint NIC/Awardee decision.

2. Prepare curricula for presentation at two (2) forums. The National Institute of Corrections paper entitled “Designing Training for the National Institute of Corrections; Instructional Theory into Practice” will be used in preparing curricula.

Understanding decision points and their impact. These include but are not limited too:

a. physical vs citation arrest;

b. information for initial appearance;

c. diversion programs;

d. case processing;

e. community supervision options;

f. victim perspectives; and

g. an overview of a strategic planning process which includes a description of mapping and visioning.

A content notebook should be prepared for each participant. The notebooks should include current and relevant information on the following subjects: citation vs physical arrest, case processing, release options, supervision options, jail vs community release, economic impact of decisions together with strategic planning and visioning information.

3. Assist in the development and dissemination of program application materials.

4. Assist in the review and rating of applications.

5. Conduct/contract a pre-forum meeting with each participating jurisdiction at their home location to discuss objectives/expectations with all participants.

6. Contract for and pay presenters for two (2) forums of three days each in Colorado.

7. Contract for and pay a facilitator to travel to each jurisdiction and assist in a mapping process of all pretrial activities. This activity will occur between the first and second forum meeting.

8. Coach faculty for the forum events.

9. Prepare a program description for dissemination to participants.

10. Host the forum events.

11. Prepare and disseminate an evaluation form to participants concerning the total initiative including training and technical assistance.

12. Provide documentation of services performed to include number of events and participants served.

Authority: Public Law 93-415.

Funds Available: The award will be limited to $210,000 (direct and indirect costs and project activity must be completed within 12 months of the date of award. Funds may not be used for construction, or to acquire or build real property. This project will be a collaborative venture with the NIC Community Corrections Division.

Deadline for Receipt of Applications: Applications must be received by 4:00 p.m. on Wednesday, March 1, 2000, 4:00 p.m. Eastern daylight time. They should be addressed to: National Institute of Corrections, 320 First Street, NW, Room 5007, Washington, DC 20534. Hand delivered applications should be brought to 500 First Street, NW, Washington, DC 20534. The front desk will call Bobbi Tinsley at (202) 307-3106, extension 0 for pickup.

Addresses and Further Information: Requests for the applicant kit, which includes further details on the project's objectives, etc., should be directed to Judy Evens, Cooperative Agreement Control Office, National Institute of Corrections, 320 First Street, N.W., Room 5007, Washington, DC 20534 or by calling 800-995-6423, ext. 159, 202-307-3106, ext. 159, or email: jevens@bop.gov. A copy of this announcement, application forms, and additional information may also be obtained through the NIC web site: http.//www.nicic.org (click on “What's New” and “Cooperative Agreements”). All technical and/or programmatic questions concerning this announcement should be directed to Al Hall at the above address or by calling 800-995-6423 or 2020-307-1300, ext. 162, or by E-mail via ahall@bop.gov.

Eligibility Applicants: An eligible applicant is any state or general unit of local government, public or private agency, educational institution, organization, team, or individual with the requisite skills to successfully meet the outcome objectives of the project.

Review Considerations: Applications received under this announcement will be subjected to an NIC 3 to 5 member Peer Review Process.

Number of Awards: One (1).

NIC Application Number: 00C01 This number should appear as a reference line in your cover letter and also in box 11 of Standard Form 424.

Catalog of Federal Domestic Assistance Number: 16.601.

Dated: January 13, 2000.
Morris L. Thigpen,
Director, National Institute of Corrections.

[FR Doc. 00-1255 Filed 1-19-00; 8:45 am]

BILLING CODE 4410-36-M